DEPARTMENT OF HEALTH AND HUMAN SERVICES

Centers for Disease Control and Prevention

Disease, Disability, and Injury Prevention and Control Special Emphasis Panel (SEP): The Epidemiological Follow-Up of Thyroid Disease in Persons Exposed to Radioactive Fallout From Atomic Weapons Testing at the Nevada Test Site, PA #04173

In accordance with Section 10(a)(2) of the Federal Advisory Committee Act (Pub. L. 92-463), the Centers for Disease Control and Prevention (CDC) announces the following meeting: The Epidemiological Follow-up of Thyroid Disease in Persons Exposed to Radioactive Fallout from Atomic Weapons Testing at the Nevada Test Site, Program Announcement Number 04173.

Name: Disease, Disability, and Injury Prevention and Control Special Emphasis Panel (SEP): The Epidemiological Follow-up of Thyroid Disease in Persons Exposed to Radioactive Fallout from Atomic Weapons Testing at the Nevada Test Site, Program Announcement Number 04173.

Times and Dates: 1 p.m.-1:30 p.m., August 13, 2004 (Open). 1:30 p.m.-4:30 p.m., August 13, 2004 (Closed).

Place: National Center for Environmental Health/Agency for Toxic Substance Disease Registry, 1825 Century Boulevard, Atlanta, Georgia 30345, Teleconference Number 1-888-889-1733.

Status: Portions of the meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to Program Announcement Number 04173.

For Further Information Contact: J. Felix Rogers, Ph.D., M.P.H., CDC, National Center for Environmental Health/Agency for Toxic Substance Disease Registry, Office of Science, 1600 Clifton road, NE, MS-E28, Atlanta, GA 30333, (404) 498-0222.

The Director, Management Analysis and Services Office, has been delegated the authority to sign Federal Register notices pertaining to announcements of meetings and other committee management activities, for both CDC and the Agency for Toxic Substances and Disease Registry.

Dated: July 1, 2004.
Alvin Hall,
Director, Management Analysis and Services Office, Centers for Disease Control and Prevention.

[FR Doc. 04-15917 Filed 7-13-04; 8:45 am]

BILLING CODE 4163-70-P